DEPARTMENT OF JUSTICE

Antitrust Division

Notice Pursuant to the National Cooperative Research and Production Act of 1993—Telemanagement Forum

Notice is hereby given that, on November 12, 2003, pursuant to section 6(a) of the National Cooperative Research and Production Act of 1993, 15 U.S.C. 4301 et seq. (“the Act”), Telemanagement Forum (“the Forum”) has filed written notifications simultaneously with the Attorney General and the Federal Trade Commission disclosing changes in its membership status. The notifications were filed for the purpose of extending the Act's provisions limiting the recovery of antitrust plaintiffs to actual damages under specified circumstances. Specifically, Accudata Technologies, Allen, TX; Aktavara AB, Stockholm, SWEDEN; AsiaInfo Technologies, Beijing, PEOPLE'S REPUBLIC OF CHINA; AUDITEC, Paris, FRANCE; AZURE SOLUTIONS, Ipswich, Suffolk, UNITED KINGDOM; BSB, Moscow, RUSSIA; Cape Clear Software, Donnybrook, Dublin, IRELAND; CDOT, Chanakya Puri, New Delhi, INDIA; Cominfo Consulting, Moscow, RUSSIA; Comstar Telecommunications, Moscow, RUSSIA; Creawor Beijing Technique Center, Zhuhai, Guangdong, PEOPLE'S REPUBLIC OF CHINA; DIATEM NETWORKS, Ottawa, Ontario, CANADA: Distocraft Oy, Helsinki, FINLAND; Dubai Internet City, Dubai, UNITED ARAB EMIRATES; EXA CORPORATION, Saiwai, Kawasaki, Kanagawa, JAPAN; Frost and Sullivan, Beijing, PEOPLE'S REPUBLIC OF CHINA; Fundacao CPqD, Campinas, BRAZIL; GIGA STREAM UMTS Tech. GmbH, Saarbruecken, GERMANY; IBS LTD, Moscow, RUSSIA; InteGreaT B.V., Bergen op Zoom, THE NETHERLANDS; IXI Mobile, Inc., Ra'anana, ISRAEL; Katz and Company, Imperial, PA; Keymile, Berne-Liebefeld, CH, SWITZERLAND; Mermarsat Limited, Harpenden, UNITED KINGDOM; MTN Nigeria Communications Ltd, Victoria Island, Lagos, NIGERIA; Murray Dunlop Ltd., Cam, Dursley, Gloucestershire, UNITED KINGDOM; Nakina Systems, Ottawa, Ontario, CANADA; NetProfits Limited, Erlangen, GERMANY; Neural Technologies, Petersfield, Hampshire, UNITED KINGDOM; Ovum Limited, London, UNITED KINGDOM; Operax AB, Luleaa, SWEDEN; PANDUIT CORPORATION, Tinley Park, IL: Partner Communications Co., Ltd., Rosh ha'ayin, ISRAEL; Pontis, Inc, Herzliya, Pituach, ISRAEL; PT ExcelComindo Pratama, Jakarta, INDONESIA; SAP AG, Newtown Square, PA; Saudi Telecom, Riyadh, Central, SAUDI ARABIA; SESA Software International, Rome, ITALY; SPIN aka Przedsiebiorstwo, Katowice, POLAND; TAZZ Networks, Plano, TX; THE OPEN GROUP, San Francisco, CA; TOT Corporation Public Company Limited, Thungsonghong, Laksi, Bangkok, THAILAND; University of Glasgow, Glasgow, Scotland, UNITED KINGDOM; West Global, IFSC, Dublin, IRELAND; West Ridge Networks, Littleton, MA; Westel Mobile Company, Budapest, Pest, HUNGARY; DSET CORPORATION, Pleasanton, CA (from August 1994 to March 13, 2003); ITEC SOLUTIONS, INC., Ottawa, Ontario, CANADA; (from September 1995 to September 3, 2003); and WIND TELECOMICAZIONI SPA, Milano, ITALY (from April 2000 to March 31, 2003) have been added as parties to this venture.

The following existing members have changed their names: Teleformance has changed its name to Telcoremance, Valbonne, FRANCE; Sykora GmbH has changed its name to TietoEnator Oyj, Buehl, GERMANY; 4C Telecom (formerly of Overland Park, KS) has changed its name to NetHarmonix, Burlington, VT; and Progress (formerly Excellon) has changed its name to Sonic Software, Bedford, MA.

The following members have cancelled or have had their memberships cancelled: Aran Technologies, Blackrock, Co. Dublin, IRELAND; Arkipelago Svenska AB, Stockholm, SWEDEN; Astracon, Inc., Englewood, CO; Australian Communications Industry Ltd., (formerly of North Sydney) Milsons Point, New South Wales, AUSTRALIA; Chiaro Networks, Inc., Richardson, TX; Claudia Liliana Bucheli Enriquez, Bogota, COLUMBIA; Concept Wave Software, Mississauga, Ontario, CANADA; Cplane, Inc., Sunnyvale, CA; Geoff Coleman, Sherwood Park, Alberta, CANADA; IGS, Inc., Boulder, CO; Imagine Broadband Ltd., London, UNITED KINGDOM; KTICOM, Seoul, REPUBLIC OF KOREA; Literate Technologies, San Carlos, CA; NTT Comware Corporation, Chiba-shi, Chiba, JAPAN; Parc Technologies Ltd., London, UNITED KINGDOM; Riversoft, San Francisco, CA; Schema, Yehud, Kiryat Savionim, ISRAEL; Shulist Group Inc. Bolton, Ontario, CANADA; SkyOptik, Red Bank, NJ; SupportSoft, Inc., Redwood City, CA; Swanson Consulting Inc., Mountainville, NY; Tim Peru S.A.C., La Victoria, Lima, PERU; and Virtual Access, Dublin, IRELAND.

No other changes have been made in either the membership or planned activity of the group research project. Membership in this group research project remains open, and the Forum intends to file additional written notifications disclosing all changes in membership.

On October 21, 1988, the Forum filed its original notification pursuant to Section 6(a) of the Act. The Department of Justice published a notice in the Federal Register pursuant to section 6(b) of the Act on December 8, 1988 (53 FR 49615).

The last notification was filed with the Department on May 30, 2003. A notice was published in the Federal Register pursuant to Section 6(b) of the Act on July 16, 2003 (68 FR 42132).

Dorothy B. Fountain,
Deputy Director of Operations, Antitrust Division.

[FR Doc. 04-2148 Filed 2-2-04; 8:45 am]

BILLING CODE 4910-11-M